DEPARTMENT OF THE INTERIOR

National Park Service

[NPS-WASO-NAGPRA-19684; PPWOCRADN0-PCU00RP14.R50000]

Notice of Inventory Completion: U.S. Department of the Interior, National Park Service, Montezuma Castle National Monument, Camp Verde, AZ; Correction

AGENCY: National Park Service, Interior.

ACTION: Notice; correction.

SUMMARY: The U.S. Department of the Interior, National Park Service, Montezuma Castle National Monument has corrected an inventory of human remains and associated funerary objects, published in a Notice of Inventory Completion in the Federal Register on April 1, 2015. This notice corrects the minimum number of individuals and number of associated funerary objects. Lineal descendants or representatives of any Indian tribe or Native Hawaiian organization not identified in this notice that wish to request transfer of control of these human remains and associated funerary objects should submit a written request to Montezuma Castle National Monument. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to Montezuma Castle National Monument at the address in this notice by January 11, 2016.

ADDRESSES: Dorothy FireCloud, Superintendent, Montezuma Castle National Monument, P.O. Box 219, Camp Verde, AZ 86322, telephone (928) 567-5276, email dorothy_firecloud@nps.gov.

SUPPLEMENTARY INFORMATION: Notice is here given in accordance with the Native American Graves Protection and Repatriation Act (NAGPRA), 25 U.S.C. 3003, of the correction of an inventory of human remains and associated funerary objects under the control of the U.S. Department of the Interior, National Park Service, Montezuma Castle National Monument, Camp Verde, AZ. The human remains and associated funerary objects were removed from Montezuma Castle National Monument, Yavapai County, AZ.

This notice is published as part of the National Park Service's administrative responsibilities under NAGPRA, 25 U.S.C. 3003(d)(3). The determinations in this notice are the sole responsibility of the Superintendent, Montezuma Castle National Monument.

This notice corrects the minimum number of individuals and number of associated funerary objects published in a Notice of Inventory Completion in the Federal Register (80 FR 17477, April 1, 2015). The human remains and associated funerary object were inadvertently omitted from the published notice. Transfer of control of the items in this correction notice has not occurred.

Correction

In the Federal Register (80 FR 17477, April 1, 2015), the following paragraph is inserted immediately before paragraph 18:

In 1936, human remains representing, at minimum, one individual were removed from the Montezuma Well area in Yavapai County, AZ by the William Back family. The human remains and associated funerary object were donated to Montezuma Castle National Monument in 2014 by a Back family descendant. No known individuals were identified. The one associated funerary object is an obsidian projectile point.

In the Federal Register (80 FR 17477, April 1, 2015), paragraph numbers 28 and 29 are corrected by substituting the following paragraphs:

• Pursuant to 25 U.S.C. 3001(9), the human remains described in this notice represent the physical remains of 129 individuals of Native American ancestry.

• Pursuant to 25 U.S.C. 3001(3)(A), the 84 objects described in this notice are reasonably believed to have been placed with or near individual human remains at the time of death or later as part of the death rite or ceremony.

Additional Requestors and Disposition

Lineal descendants or representatives of any Indian tribe or Native Hawaiian organization not identified in this notice that wish to request transfer of control of these human remains and associated funerary objects should submit a written request with information in support of the request to Dorothy FireCloud, Superintendent, Montezuma Castle National Monument, P.O. Box 219, Camp Verde, AZ 86322, telephone (928) 567-5276, email dorothy_firecloud@nps.gov, by January 11, 2016. After that date, if no additional requestors have come forward, transfer of control of the human remains and associated funerary objects to The Consulted and Invited Tribes may proceed.

Montezuma Castle National Monument is responsible for notifying The Consulted and Invited Tribes that this notice has been published.

Dated: October 28, 2015.
Melanie O'Brien,
Manager, National NAGPRA Program.

[FR Doc. 2015-31321 Filed 12-10-15; 8:45 am]

BILLING CODE 4312-50-P